DEPARTMENT OF THE INTERIOR

Bureau of Land Management

[LLAK-963000-L1410000-FQ0000; F-023812]

Public Land Order No. 7779; Partial Revocation of Secretarial Order Dated September 24, 1942; Alaska

AGENCY: Bureau of Land Management, Interior.

ACTION: Public Land Order.

SUMMARY: This order revokes a Secretarial Order insofar as it affects approximately 606 acres of public land withdrawn on behalf of the Federal Aviation Administration for Air Navigation Site No. 190 at Lake Minchumina, Alaska. The land is no longer needed for the purpose for which it was withdrawn.

DATES: Effective Date: September 27, 2011.

FOR FURTHER INFORMATION CONTACT: Robert L. Lloyd, Bureau of Land Management, Alaska State Office, 222 W. Seventh Avenue, #13, Anchorage, Alaska 99513-7504; 907-271-4682.

SUPPLEMENTARY INFORMATION: The Federal Aviation Administration has determined approximately 606 acres of Air Navigation Site No. 190 now exceeds its needs and has requested a partial revocation of the withdrawal. Upon revocation, the State of Alaska selection applications made under the Alaska Statehood Act and the Alaska National Interest Lands Conservation Act become effective without further action by the State, if such land is otherwise available. Land selected by, but not conveyed to, the State is subject to the terms and conditions of Public Land Order No. 5184 (37 FR 5588 (1972)), as amended, and any other withdrawals, applications, or segregations of record. While the land remains in Federal ownership, there is no significant restriction on subsistence uses. If the land ultimately is conveyed to the State of Alaska pursuant to the Alaska Statehood Act, that conveyance will not result in a significant restriction on subsistence uses. Even if any such restriction would result upon conveyance of the land to the State, conveyance of the land is authorized by Section 810(c) of the Alaska National Interest Lands Conservation Act.

Order

By virtue of the authority vested in the Secretary of the Interior by Section 204 of the Federal Land Policy and Management Act of 1976, 43 U.S.C. 1714, it is ordered as follows:

1. The Secretarial Order dated September 24, 1942, which withdrew public lands and reserved them on behalf of the Federal Aviation Administration for Air Navigation Site No. 190, is hereby revoked only insofar as it affects the following described land:

Fairbanks Meridian, Alaska

T. 12 S., R. 24 W.,

sections 5, 6, 7, 8, and 17, a parcel of land contained within U.S. Survey No. 2655, excluding:

(a) An area of land contained within said U.S. Survey No. 2655, and described as: Commencing at U.S. Location Monument No. 2655, monumented with an iron post, 2 inches diameter, with brass cap marked USLM + 2655 1944; thence N. 78° 59′ E., 461 feet to the True Point of Beginning; thence N. 45° 01′ W., 2,411 feet to the west boundary of U.S. Survey No. 2655; thence along the west boundary of U.S. Survey No. 2655 South, 2,162 feet to the witness meander corner No. 1, monumented with an iron post, 2 inches diameter, with brass cap marked WC S 2655 C1 MC 1944; thence continuing along the west boundary of U.S. Survey No. 2655 South 89.76 feet to the ordinary high water line of Lake Minchumina and point for meander corner No. 1; thence with the meanders of Lake Minchumina, at the ordinary high water line S. 58° 12′ E., 683 feet; thence with the meanders of Lake Minchumina at the ordinary high water line S. 45° 00′ E., 154 feet; thence N. 44° 59′ E., 1,437 feet to the True Point of Beginning, containing approximately 57.31 acres;

(b) An area of land contained within U.S. Survey No. 2655, and described as: Commencing at a 3¼-inch brass cap monument identified as U.S.L.M. 2655; thence N. 02° 22′ W., 2,493 feet to the True Point of Beginning; thence S. 76° 12′ E., 850 feet; thence N. 13° 48′ E., 899 feet, thence N. 76° 12′ W., 850 feet; thence S. 13° 48′ W., 899 feet to the True Point of Beginning, containing approximately 18 acres; and

(c) An area of land contained within U.S. Survey No. 2655, and described as: Commencing at a 3¼-inch brass cap monument identified as U.S.L.M. 2655; thence N. 34° 35′ E., 930 feet to the True Point of Beginning; thence N. 45° 23′ E., 699 feet; thence N. 44° 37′ W., 400 feet; thence S. 45° 23′ W., 699 feet; thence S. 44° 37′ E., 400 feet to the True Point of Beginning, containing approximately 6 acres.

The area described contains approximately 606 acres, more or less, at Lake Minchumina.

2. The State of Alaska applications for selection made under Section 6(a) of the Alaska Statehood Act of July 7, 1958, 48 U.S.C. note prec. 21, and under Section 906(e) of the Alaska National Interest Lands Conservation Act, 43 U.S.C. 1635(e), become effective without further action by the State upon publication of this Public Land Order in the Federal Register, if such land is otherwise available. Land selected by, but not conveyed to, the State will be subject to Public Land Order No. 5184 (37 FR 5588 (1972)), as amended, and any other withdrawal or segregation of record.

Dated: September 6, 2011.
Rhea S. Suh
Assistant Secretary—Policy, Management and Budget.

[FR Doc. 2011-24706 Filed 9-26-11; 8:45 am]

BILLING CODE 1410-JA-P